DEPARTMENT OF THE INTERIOR

Bureau of Land Management

[CO-930-1430-ET; COC-67064]

Public Land Order No. 7641; Transfer of Jurisdiction, Baca National Wildlife Refuge; CO

AGENCY: Bureau of Land Management.

ACTION: Public land order.

SUMMARY: This order transfers administrative jurisdiction of 1,178.57 acres of surface and mineral estate and 3,991.40 acres of reserved Federal mineral estate from the Bureau of Land Management to the United States Fish and Wildlife Service for addition to and administration as part of the Baca National Wildlife Refuge. The transfer of jurisdiction is authorized by Section 8(a) of the Great Sand Dunes National Park and Preserve Act of 2000 (Pub. L. 106-530).

DATES: Effective August 10, 2005.

FOR FURTHER INFORMATION CONTACT: Doris Chelius, BLM Colorado State Office, 2850 Youngfield Street, Lakewood, Colorado 80215-7093, 303-239-3713.

Order

By virtue of the authority vested in the Secretary of the Interior by Section 8 of the Great Sand Dunes National Park and Preserve Act of 2000, Public Law 106-530, it is ordered as follows:

1. Subject to valid existing rights, administrative jurisdiction of the following described public lands, including the mineral estate, is hereby transferred to the United States Fish and Wildlife Service for addition to and administration as part of the Baca National Wildlife Refuge:

New Mexico Principal Meridian

T. 41 N., R. 10 E.,

Sec. 12, lot 1.

T. 42 N., R. 10 E.,

Sec. 12, lots 1 and 2;

Sec. 13, lots 1 and 2;

Sec. 24, lots 1 and 2;

Sec. 25, lots 1 and 2.

T. 43 N., R. 10 E.,

Sec. 34, W½SW¼.

T. 41 N., R. 11 E.,

Sec. 14, lots 1 to 4, inclusive, and S½;

Sec. 23, N½ and SW¼.

The areas described aggregate 1,178.57 acres in Saguache County.

2. Subject to valid existing rights, administrative jurisdiction of the reserved Federal mineral estate in the lands described below is hereby transferred to the United States Fish and Wildlife Service for addition to and administration as part of the Baca National Wildlife Refuge:

New Mexico Principal Meridian

T. 42 N., R. 10 E.,

Sec. 2, lots 1, 2, and S½NE¼.

T. 42 N., R. 10 E.,

Sec. 13, SW¼;

Sec. 24, W½.

T. 43 N., R. 10 E.,

Sec. 23, SW¼SE¼;

Sec. 35, E½SE¼.

T. 41 N., R. 11 E.,

Sec. 15, fractional N½ and SE¼;

Sec. 21, W½ and SE¼;

Sec. 22, E½ and SW¼;

Sec. 23, SE¼;

Sec. 26, N½ and SE¼;

Sec. 27, N½ and SW¼;

Sec. 34, W½ and SE¼;

Sec. 35, NE¼ and SW¼.

The areas described aggregate 3,991.40 acres in Saguache County.

3. In accordance Section 7(e) of Public Law 106-530, the lands and minerals described in Paragraphs 1 and 2 are hereby withdrawn from all forms of entry, appropriation, or disposal under the public land laws; location, entry and patent under the mining laws; and disposition under all laws relating to mineral and geothermal leasing. Future use and disposition of the lands and minerals described in this order shall be in accordance with the provisions of Public Law 106-530.

Dated: July 19, 2005.
Rebecca W. Watson,
Assistant Secretary—Land and Minerals Management.

[FR Doc. 05-15817 Filed 8-9-05; 8:45 am]

BILLING CODE 4310-JB-P